DEPARTMENT OF DEFENSE

Department of the Navy

Record of Decision for Proposed Future Operations and Facility Modernization at the Naval Air Warfare Center Weapons Division Point Mugu Sea Range, Point Mugu, CA

AGENCY: Department of the Navy, DOD.

ACTION: Notice.

SUMMARY: The Department of the Navy announces its decision to modernize facilities and support current levels of weapons test and evaluation activities, increased levels of fleet training activities, and Theater Missile Defense testing and training at the Naval Air Warfare Center Weapons Division Point Mugu Sea Range, Point Mugu, CA.

SUPPLEMENTARY INFORMATION: Pursuant to Section 102(2)(c) of the National Environmental Policy Act (NEPA) of 1969, 42 U.S.C. Sections 4321 et seq.; Council on Environmental Quality regulations (40 CFR Parts 1500-1508), Department of the Navy regulations (32 CFR 775); and Executive Order 12114 (Environmental Effects Abroad of Major Federal Actions), the Department of the Navy (Navy) announces its decision to modernize facilities and support current levels of weapons test and evaluation activities, increased levels of fleet training activities, and Theater Missile Defense (TMD) testing and training on the Sea Range, as described in the Preferred Alternative. This decision will enable the Navy to conduct state-of-the-art weapons systems testing and evaluation and maintain the level of operational readiness of our military services on a safe, operationally realistic, and thoroughly instrumented Sea Range.

Background and Issues: The 36,000 square mile Sea Range lies both inside and outside U.S. territorial waters and includes San Nicolas Island and assets at Naval Base Ventura County (NBVC), Point Mugu, CA. It is scheduled and managed by Naval Air Warfare Center Weapons Division (NAWCWPNS) Point Mugu. The Navy has continuously operated the Sea Range for more than 50 years. It provides a safe, highly instrumented volume of air and sea space in which to conduct controlled test and evaluation of sea, land, and air weapons systems. The test and evaluation process is critical to the assessment, improvement, and safe operation of current and future weapons systems. The Sea Range also provides realistic training opportunities. Maintaining military units in their highest state of operational readiness has become even more demanding as military strategy increasingly involves the use of new or enhanced technologies.

Alternatives: A screening process, based upon criteria set out in the Environmental Impact Statement/Overseas Environmental Impact Statement (EIS/OEIS), was conducted to identify a reasonable range of alternatives that would satisfy the Navy's purpose and need. Three alternatives were analyzed in detail in the EIS/OEIS: the Preferred Alternative, the Minimum Components Alternative, and the No Action Alternative.

The Preferred Alternative was comprised of the following elements: (1) Continued testing activities at the Sea Range at current levels, including air-to-air, air-to-surface, surface-to-air, surface-to-surface, and subsurface-to-surface tests; 2) TMD testing and training elements (boost phase, upper tier, lower tier, and nearshore intercept); (3) up to three Fleet training events annually; (4) up to four special warfare training events annually; (5) continuation of other training activities at current levels; and (6) facility modernizations at NVBC Point Mugu and San Nicolas Island to enhance the capability of the Sea Range to support existing and future operations. Facility modernization would include new launch pads at NVBC Point Mugu and construction and operation of missile launchers, a range support building, and five multiple-purpose instrumentation sites at San Nicholas Island.

The Minimum Components Alternative was comprised by the following elements: (1) Testing activities at current levels; (2) up to eight nearshore intercept TMD events annually; (3) up to four Fleet training exercises annually; (4) other training activities at current levels, and (5) facility modernization that includes the construction of five multiple-purpose instrumentation sites on San Nicolas Island.

Under the No Action Alternative, the Navy would continue test and training operations at current annual levels. No TMD activities would be conducted and there would be no facility modernizations. The No Action Alternative is the environmentally preferred alternative because it involves no change to the physical environment.

Environmental Impacts: Potential environmental impacts occurring both inside and outside U.S. territory were analyzed in this combined EIS/OEIS for each of the three alternatives. No significant impacts on any resource, either inside or outside U.S. territory, were identified. The results of consultations conducted with federal regulatory agencies are briefly described below.

The Navy initiated informal consultation with the National Marine Fisheries Service (NMFS) under Section 7 of the Endangered Species Act (16 U.S.C. Section 1531) for all activities on the Sea Range addressed in the EIS/OEIS. The consultation concluded in January 2002, with the NMFS determination that all current activities, and those future activities to be accommodated as part of the Preferred Alternative, would not adversely affect federally listed species under their jurisdiction.

The Navy also coordinated with NMFS on the Marine Mammal Protection Act (16 U.S.C. Section 1431 et seq.). For all activities at sea, the Navy determined that “takes” of marine mammals are unlikely. To accommodate missile launch events potentially affecting pinnipeds (seals and sea lions) hauled out on land at San Nicolas Island, the Navy applied for and received an Incidental Harassment Authorization (IHA). The term of the IHA is one year.

In January 1999, the Navy initiated formal consultation under Section 7 of the Endangered Species Act with the U.S. Fish and Wildlife Service (USFWS) for all activities associated with the preferred alternative that may adversely affect federally listed species under USFWS jurisdiction onboard NVBC Point Mugu. The USFWS issued a No Jeopardy Final Programmatic Biological Opinion in June 2001 that addresses all activities associated with the Preferred Alternative.

In December 2000, the Navy initiated formal consultation with the USFWS under Section 7 of the Endangered Species Act for all activities associated with the Preferred Alternative that may adversely affect federally listed species under USFWS jurisdiction on San Nicolas Island. The USFWS issued a No Jeopardy Final Programmatic Biological Opinion in October 2001 that addresses all activities associated with the Preferred Alternative.

Mitigation: Environmental management procedures and mitigation measures incorporated into the EIS/OEIS process, including those in the Biological Opinions issued by the USFWS and the IHA issued by NMFS, are summarized below.

Marine Mammal Mitigation/Monitoring Measures Associated with the Sea Range Section 7 Consultation: NMFS and the Navy agreed to five standard operating procedures to protect marine mammals during operations on the Sea Range: (1) There will be no intentional interaction between marine mammals and Navy ships and aircraft; (2) when vessels are on the Sea Range, safety lookouts are to be posted 24 hours a day to look for any and all objects in the water, including marine mammals, with all sightings reported to the ship's bridge for tracking; (3) when whales have been sighted in an area, ships will undertake increased vigilance and reasonable and practicable actions, including changing speed and/or direction (as dictated by environmental and safety or weather conditions), to avoid collisions and activities that might result in close interaction between the vessels and marine mammals; (4) in the event of a collision between a Navy vessel and a marine mammal, the Navy will notify NMFS as soon as practicable (normally within 48 hours of the incident) and provide a follow-up written report or a schedule for submission of a report within 30 days; and (5) for intercepts close to San Nicolas Island, the Navy will increase marine mammal survey efforts beyond those for normal open ocean operations.

Marine Mammal Mitigation and Monitoring Measures Under the IHA: The Navy expects that planned launches will cause disturbance reactions by some of the pinnipeds hauled out on San Nicolas Island beaches, but there would be no pinniped mortality and no significant long-term effect on pinniped stocks. Where practicable, and when doing so will not compromise operational safety requirements or mission goals, the Navy will implement the following marine mammal monitoring and mitigation procedures: (1) Personnel will be prohibited from entering pinniped haul-out sites below a missile's predicted flight path prior to launch; (2) launch activities during harbor seal pupping seasons will be avoided; (3) launch activities during the pupping seasons of other pinnipeds will be limited; (4) target missiles will not be launched at low elevations on launch azimuths that pass close to beach haul-out site(s); (5) multiple target launches in quick succession over haul-out sites will be avoided, especially when young pups are present; (6) night-time launch activities will be limited; (7) during aircraft and helicopter operations, a minimum altitude of 1,000 feet will be maintained from pinniped haul-out sites; and (8) NMFS will be contacted within 48 hours if injurious or lethal takes are discovered during marine mammal monitoring.

Mitigation/Monitoring Procedures Under the NBVC Point Mugu Biological Opinion: USFWS and the Navy agreed to annual reporting and implementation of mitigation and conservation measures. The Navy has already implemented a jet assisted takeoff (JATO) bottle retrieval program for the salt marsh in front of Building 55. In addition, the Navy will: (1) Conduct standardized and consistent population monitoring of salt marsh bird's-beak, western snowy plover, California least tern, and light-footed clapper rail; (2) areas shall be restored as salt marsh, sandy beach, or other habitat for listed species where physical parameters are appropriate and no other use is anticipated; (3) aircraft overflights will be modified and monitored by air operations personnel in order to avoid and minimize potential adverse effects to listed species; (4) Base personnel and contractors shall be educated on the identification and importance of conserving listed species, and their personal responsibilities in that regard; (5) All mitigation measures shall be evaluated to determine their effectiveness in avoiding and minimizing take of listed species, and where these mitigation measures are not effective, corrective measures shall be implemented.

Mitigation/Monitoring Procedures Under the San Nicolas Island Biological Opinion: The Navy has closed the south side of the island to all activities year-round from the barge landing at Daytona Beach to Bachelor Beach to protect three species of marine mammals, western snowy plovers, Brandt's cormorants, western gulls, and California brown pelicans, and to provide undisturbed habitat for a variety of other wildlife species. Other mitigation and conservation measures to be implemented by the Navy, in addition to annual reporting, include: (1) Closure of western snowy plover nesting areas during the breeding season using signs and barricades; (2) regular and consistent monitoring of the distribution and status of listed species, particularly those with habitat in or near operational areas, in order to assess the potential effects of Navy activities; (3) mandatory attendance by permanent and visiting island personnel at an “environmental briefing” on personal responsibilities regarding protected species under federal legislation and Navy regulations; (4) restoration of island night lizard habitat using revegetation; (5) alteration of the substrate immediately adjacent to the Building 807 launch area (during the nonbreeding season) to reduce its attractiveness as a nest site by snowy plovers (this area is not designated critical habitat for the species); (6) thorough cleaning and inspection of construction equipment, vehicles, and supplies prior to their shipment to San Nicolas Island to reduce the potential for introduction of non-native species; (7) whenever feasible, staging areas for temporary storage of equipment and materials will be sited in areas with low island night lizard densities; and (8) when practicable, proposed facility construction projects sites and associated access roads will be placed to avoid habitat that may harbor island night lizards.

Cultural Resources: Prior to use of the drop zone located in the near-shore areas of Becher's Bay at Santa Rosa Island, the Navy will conduct a thorough survey of the entire impact area, in addition to a buffer zone, for the presence of shipwrecks. If resources are found to be present, the Navy will comply with Section 106 of the National Historic Preservation Act.

As concluded in the EIS/OEIS and this Record of Decision, all practicable means to avoid or minimize environmental harm that would result from implementing this alternative will be adopted by the Navy.

Response to Comments Received Regarding the Final EIS: Comments on the EIS/OEIS were received from USFWS. No other comments were received from any other federal agency, state or local agencies, or from non-governmental organizations or individual members of the public.

The USFWS commented that the Final EIS/OEIS did not recognize that programmatic Biological Opinions had been completed for both NBVC Point Mugu and San Nicolas Island and that the Navy may have erroneously concluded in the EIS/OEIS that these Biological Opinions would protect all “sensitive species” present at the installations, not just those that are federally listed as endangered or threatened or proposed for listing. The Navy indicates that in Chapter 4.8, the Final EIS/OEIS contains a thorough discussion of both completed Biological Opinions. In addition, the Navy acknowledges that the Biological Opinions pertain only to the protection of federally listed endangered or threatened species or those proposed for listing.

Conclusions: After carefully considering the purpose and need of the proposed action, the analysis contained in the EIS/OEIS, the IHA issued by NMFS, the Biological Opinions issued by USFWS, and the comments received on the EIS/OEIS from federal, state, and local agencies, non-governmental organizations, and individual members of the public, I have determined that the Preferred Alternative will best meet the needs of the Navy. I have also determined that the Preferred Alternative will cause no significant harm to the resources of the global commons. Therefore, implementation of the Preferred Alternative will enable NAWCWPNS Point Mugu to continue to conduct state-of-the-art weapons systems testing and evaluation and maintain the operational readiness of our military services on a safe, operationally realistic, and thoroughly instrumented Sea Range.

Dated: July 24, 2002.
Donald R. Schregardus,
Deputy Assistant Secretary of the Navy (Environment).

[FR Doc. 02-19629 Filed 8-2-02; 8:45 am]

BILLING CODE 3810-FF-P